DEPARTMENT OF HEALTH AND HUMAN SERVICES

Temporary Reassignment of State, Tribal, and Local Personnel During a Public Health Emergency

AGENCY: Office of the Secretary, Department of Health and Human Services (HHS).

ACTION: Notice.

SUMMARY: The Department of Health and Human Services, Office of the Secretary is announcing the availability of a final guidance entitled “Guidance for Temporary Reassignment of State, Tribal, and Local Personnel during a Public Health Emergency.” Section 201 of the Pandemic and All-Hazards Preparedness Reauthorization Act of 2013 (PAHPRA), Public Law 113-5, amends section 319 of the Public Health Service (PHS) Act to allow the Secretary of HHS, when she declares a public health emergency under section 319 of the PHS Act, to authorize, upon request by a state or tribal organization or their designee, the temporary reassignment of state, tribal, and local personnel funded through programs authorized under the PHS Act to immediately address a public health emergency in the state or Indian tribe. This final guidance addresses that provision.

ADDRESSES: Copy of the final guidance may be obtained at www.PHE.gov!femporacyReassignment.

Additional Information: For additional information, please contact: Lisa Kaplowitz, MD, MSHA, Deputy Assistant Secretary, Office of Policy and Planning, Office of the Assistant Secretary for Preparedness and Response, 200 Independence SW., Washington, DC 20004, telephone number (202) 205-2882.

SUPPLEMENTARY INFORMATION: Section 201 of PAHPRA, Public Law 113-5, amends section 319 of the PHS Act to allow the Secretary of HHS, when she declares a public health emergency under section 319 of the PHS Act, to authorize, upon request by a state or tribal organization or their designee, the temporary reassignment of state, tribal, and local personnel funded though programs authorized under the PHS Act to immediately address a public health emergency in the state or Indian tribe.

The PHS Act requires that HHS issue proposed guidance on this provision, to be followed by a 60-day public comment period. Consistent with this requirement, a notice appeared in the Federal Register on October 1, 2013 (78 FR 60283) notifying the public that HHS was accepting comments on such proposed guidance. This 60-day public comment period concluded in December 2013. There were nine submissions received in the public comment period. Five of the submissions were local governments, one state government, and three associations. Revisions made based on feedback received included setting timelines for HHS to review; standardizing the request template for states and Indian tribes, expanding the post event reporting requirements from 90 to 120 days, and clarifications on which Public Health Service programs were potentially affected.

The temporary reassignment provision is applicable to state, tribal, and local public health department or agency personnel whose positions are funded, in full or part, under PHS programs. This authority terminates on September 30, 2018.

This new provision provides an important flexibility to state and local health departments and tribal organizations during an event requiring all the resources at their disposal. The temporary reassignment provision permits state, tribal, and local personnel to be voluntarily reassigned so they can immediately respond to the public health emergency in the affected jurisdiction.

Dated: September 1, 2015.
Sylvia Burwell,
Secretary.

Editorial Note: This document was received for publication by the Office of the Federal Register on March 29, 2016.

[FR Doc. 2016-07404 Filed 3-31-16; 8:45 am]

BILLING CODE 4150-37-P